DEPARTMENT OF HOMELAND SECURITY

Coast Guard

33 CFR Part 117

[Docket No. USCG-2016-0038]

Drawbridge Operation Regulation; Lake Pontchartrain, Near New Orleans, LA

AGENCY: Coast Guard, DHS.

ACTION: Notice of deviation from drawbridge regulation.

SUMMARY: The Coast Guard has issued a temporary deviation from the operating schedule that governs the US 11 bascule bridge across Lake Pontchartrain, mile 4.75, between New Orleans and Slidell, Orleans and St. Tammany Parishes, Louisiana. The deviation is necessary to accommodate the Louisiana Paradise Bridge Run event. The deviation will allow the draw of the bridge to remain in the closed-to-navigation position during the event.

DATES: This deviation is effective from 6:45 a.m. through 8:45 a.m. on February 20, 2016.

ADDRESSES: The docket for this deviation, [USCG-2016-0038] is available at http://www.regulations.gov.

FOR FURTHER INFORMATION CONTACT: If you have questions on this temporary deviation, call or email Jim Wetherington, Bridge Administration Branch, Coast Guard, telephone (504)671-2128, email james.r.wetherington@uscg.mil.

SUPPLEMENTARY INFORMATION: The Slidell Memorial Hospital Foundation, through the Louisiana Department of Transportation and Development (LDOTD), requested a temporary deviation from the operating schedule of the US 11 bascule bridge across Lake Pontchartrain, mile 4.75, between New Orleans and Slidell, Orleans and St. Tammany Parishes, Louisiana. The deviation was requested to allow the draw of the bridge to remain in the closed-to-navigation position during the Louisiana Paradise Bridge Run event. The vertical clearance of the vertical lift span bridge is 13 feet above mean high water in the closed-to-navigation position and 61 feet in the open-to-navigation position. The bridge is governed by 33 CFR 117.5.

This deviation is effective on February 20, 2016 from 6:45 a.m. through 8:45 a.m. The deviation will allow the draw of the bridge to remain in the closed-to-navigation position during the Bridge Run event.

Navigation on the waterway consists of small tugs with and without tows, commercial vessels, and recreational craft, including sailboats.

Vessels able to pass through the bridge in the closed-to-navigation position may do so at any time. The bridge will be able to open for emergencies, and there is no immediate alternate route. The Coast Guard will also inform the users of the waterways through our Local and Broadcast Notices to Mariners of the change in operating schedule for the bridge.

In accordance with 33 CFR 117.35(e), the drawbridge must return to its regular operating schedule immediately at the end of the effective period of this temporary deviation. This deviation from the operating regulations is authorized under 33 CFR 117.35.

Dated: January 26, 2016.
David M. Frank,
Bridge Administrator, Eighth Coast Guard District.

[FR Doc. 2016-01729 Filed 1-29-16; 8:45 am]

BILLING CODE 9110-04-P